DEPARTMENT OF ENERGY

Federal Energy Regulatory Commission

[Docket No. RP01-447-000]

Natural Gas Pipeline Company of America; Notice of Proposed Changes in FERC Gas Tariff

June 13, 2001.

Take notice that on June 8, 2001, Natural Gas Pipeline Company of America (Natural) tendered for filing to become part of its FERC Gas Tariff, Sixth Revised Volume No. 1, Original Sheet No. 415 and Sheet Nos. 416 through 499, to be effective July 9, 2001.

Natural states that the purpose of this filing is to establish a new section 51 of the General Terms and Conditions of Natural's Tariff, addressing the use of offsystem capacity acquired by Natural.

Natural states that copies of the filing are being mailed to its customers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-15383 Filed 6-18-01; 8:45 am]

BILLING CODE 6717-01-M